DEPARTMENT OF HOMELAND SECURITY

[DHS-2005-0027]

Directorate of Information Analysis and Infrastructure Protection (IAIP); Open Meeting of the Telecommuncations Service Priority System Oversight Committee (TSP OC)

AGENCY: Directorate of Information Analysis and Infrastructure Protection, DHS.

ACTION: Notice of meeting.

SUMMARY: The Telecommunications Service Priority System Oversight Committee (TSP OC) will meet on Tuesday, May 3, 2005, from 9 a.m. to 12 noon at the offices of the U.S. Department of Homeland Security (DHS) National Communications System (NCS) in Arlington, Virginia. This meeting is open to the public. Limited seating will be available. Reservations are necessary for access to the NCS facility and meeting location.

The TSP OC identifies and reviews any problems developing in the TSP System and recommends actions to correct them or prevent recurrence.

DATES: The TSP OC will meet Tuesday, May 3, 2005, from 9 a.m. to 12 noon.

ADDRESSES: The TSP OC will meet at the DHS/NCS National Coordinating Center for Telecommunications Conference Room, 701 S. Courthouse Road, Arlington, VA, second floor. You may submit comments, identified by DHS Docket Number DHS-2005-0027 by one of the following methods:

• EPA Federal Partner EDOCKET Web Site: http://www.epa.gov/feddocket. Follow the instructions for submitting comments on the Web site.

• Federal eRulemaking Portal: http://www.regulations.gov. Follow the instructions for submitting comments.

• Mail/Hand Delivery/Courier: Department of Homeland Security, c/o DISA, Attn: NCS (N3), Lt. Col. Joanne Sechrest/703-607-4960, NCS/Priority Telecommunications Branch, P.O. Box 4502, Arlington, VA 22204-4502, 7:30 a.m. to 4 p.m.

Instructions: All submissions received must include the docket number, DHS-2005-0027. All comments received will be posted without change to http://www.epa.gov/feddocket, including any personal information provided.

FOR FURTHER INFORMATION CONTACT: Ms. Susan Flint, DHS/NCS TSP Program Office, 703-607-4932. Media or press should contact Mr. Steve Barrett at 703-607-6211.

SUPPLEMENTARY INFORMATION: Notice of this meeting is given under the Federal Advisory Committee Act, 5 U.S.C. App. 1 et seq.

Draft Agenda of Committee Meeting on May 3, 2005

I. Call To Order—TSP OC Chair, Ken Keim, National Emergency Management Association

II. Welcoming Remarks—TSP OC Chair Ken Keim

III. Approve Minutes of May 5, 2004 Meeting—TSP OC Chair Ken Keim

IV. Election of TSP OC Vice Chair—Lt. Col. Joanne Sechrest, U.S. Department of Homeland Security (DHS)/Designated Federal Official, TSP OC

V. Review Action Items from May 5, 2004 TSP OC Meeting—TSP OC Chair Ken Keim

VI. TSP Program Update—Deborah Bea, DHS/TSP Program Manager

A. Status of Revalidation, Confirmation, TSPWeb—Deborah Bea

B. TSP OC Charter Renewal Review, Nomination Results (new and returning members)—Deborah Bea

C. General Services Administration Office of Governmentwide Policy Advisory Committee Engagement Survey Information Briefing—Deborah Bea

VII. Priority Services Working Group Update—Ken Moran, Federal Communications Commission

VIII. Overview of TSP Vendor Working Group—Lt. Col. Sechrest

IX. TSP Outreach—Lt. Col. Sechrest

X. Review Action Items—Lt. Col. Sechrest

XI. Old Business/New Business Adjournment—TSP OC Chair Ken Keim

Procedural Information

This meeting is open to the public. Please note that the meeting may close early if all business is finished.

Information on Services for Individuals With Disabilities

For information on facilities or services for individuals with disabilities, or to request special assistance at the meeting, telephone Susan Flint as soon as possible.

Peter M. Fonash,
Acting Deputy Manager, National Communications System.

[FR Doc. 05-6818 Filed 4-5-05; 8:45 am]

BILLING CODE 4410-10-P